DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

National Railroad Passenger Corporation

[Docket Number FRA-2004-19756]

The National Railroad Passenger Corporation (AMTRAK) seeks a waiver of compliance from the provisions of the Federal Track Safety Standards, 49 CFR 213.333(l), subpart G, regarding the requirement for conducting annual instrumented wheel set (IWS) testing. The waiver would grant AMTRAK relief by extending their deadline for conducting the 2004 instrumented wheel set (IWS) test on its North East Corridor (NEC). This relief provides AMTRAK sufficient time to jointly resolve technical issues with FRA and allows AMTRAK to better manage the expense and possible service disruptions caused by IWS testing.

AMTRAK anticipates that these technical issues will be resolved with FRA in early 2005. It also anticipates that further testing with IWS for 9 inch cant deficiency operation will need to take place once these technical issues are resolved. In order to reduce cost, and minimize service disruption, AMTRAK would like to schedule its annual IWS testing concurrent with 9 inch cant deficiency testing, and is requesting this waiver so that all testing can benefit from one installation of instrumentation for IWS.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2004-19756) and must be submitted to the Docket Clerk, DOT Docket Management Facility, Room PL-401 (Plaza Level), 400 7th Street, SW., Washington, DC 20590. Communications received within 20 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on November 29, 2004.
Michael J. Logue,
Deputy Associate Administrator for Safety.

[FR Doc. 04-26631 Filed 12-2-04; 8:45 am]

BILLING CODE 4910-06-M